DEPARTMENT OF TRANSPORTATION

Federal Aviation Administration

14 CFR Part 39

[Docket No. 2003-NM-17-AD; Amendment 39-13662; AD 2004-12-03]

RIN 2120-AA64

Airworthiness Directives; Saab Model SAAB SF340A and SAAB 340B Series Airplanes

AGENCY: Federal Aviation Administration, DOT.

ACTION: Final rule.

SUMMARY: This amendment adopts a new airworthiness directive (AD), applicable to certain Saab Model SAAB SF340A and SAAB 340B series airplanes, that requires inspection of the main landing gear's (MLG) separation bolt harness, corrective actions if necessary, and replacement of the MLG's separation bolt harness. For certain airplanes, this AD also requires modification of the MLG separation bolt's electrical harness. This action is necessary to prevent failure of the MLG to extend during use of the emergency backup system. This action is intended to address the identified unsafe condition.

DATES: Effective July 29, 2004.

The incorporation by reference of certain publications listed in the regulations is approved by the Director of the Federal Register as of July 29, 2004.

ADDRESSES: The service information referenced in this AD may be obtained from Saab Aircraft AB, SAAB Aircraft Product Support, S-581.88, Linköping, Sweden. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Saab Model SAAB SF340A and SAAB 340B series airplanes was published in the Federal Register on April 1, 2004 (69 FR 17077). That action proposed to require inspection of the main landing gear's (MLG) separation bolt harness, corrective actions if necessary, and replacement of the MLG's separation bolt harness. For certain airplanes, that action also proposed to require modification of the MLG separation bolt's electrical harness.

Comments

Interested persons have been afforded an opportunity to participate in the making of this amendment. No comments were submitted in response to the proposal or the FAA's determination of the cost to the public.

Conclusion

The FAA has determined that air safety and the public interest require the adoption of the rule as proposed.

Cost Impact

The FAA estimates that 224 airplanes of U.S. registry will be affected by this AD. The following table shows the estimated cost impact for airplanes affected by this AD. The average labor rate is $65 per work hour.

For certain model— | Action— | Number of airplanes affected— | Work hours— | Parts cost— | Total cost—
SAAB SF340A and SAAB 340B series airplaines | Inspection of the harnesses | 224 | 4 | (none) | $58,240, or $260 per airplane.
SAAB SF340A and SAAB 340B series airplanes | Replacement of the harnesses | 224 | 12 | $2,100 | $645,120, or $2,880 per airplane.
SAAB SF340A series airplanes | Modification of the harnesses | 56 | 2 | $1,475 | $89,880, or $1,604 per airplane.
SAAB SF340A series airplanes | Modification of the harnesses | 40 | 1 | (none) | $2,600, or $65 airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-12-03 Saab Aircraft AB: Amendment 39-13662. Docket 2003-NM-17-AD.

Applicability: Model SAAB SF340A series airplanes with serial numbers 004 through 159 inclusive; and Model SAAB 340B series airplanes with serial numbers 160 through 459 inclusive; certificated in any category.

Compliance: Required as indicated, unless accomplished previously.

To prevent failure of the main landing gear (MLG) to extend during use of the emergency backup system, accomplish the following:

Inspection and Corrective Actions

(a) Within 3 months after the effective date of this AD, perform an inspection of the MLG's separation bolt harness for broken wires and corroded connectors, and any applicable corrective actions by doing all of the actions in the Accomplishment Instructions of Saab Service Bulletin (SB) 340-32-127, dated December 18, 2002; or Revision 01, dated January 23, 2003. Perform the inspection/corrective actions in accordance with the service bulletin. Perform any applicable corrective actions before further flight.

Replacement

(b) Within 12 months after the effective date of this AD, replace the separation bolt harnesses of the MLGs with new separation bolt harnesses in accordance with the Accomplishment Instructions of Saab SB 340-32-128, dated March 28, 2003.

(c) The inspection required by paragraph (a) of this AD is not required for airplanes on which the replacement required by paragraph (b) of this AD is done within the compliance time specified in paragraph (a) of this AD.

Concurrent Service Bulletins

(d) For Model SAAB SF340A series airplanes: Prior to or concurrent with accomplishment of paragraph (b) of this AD, do the actions specified in Table 1 of this AD, as applicable.

Table 1.—Prior/Concurrent Actions
For airplanes with serial numbers— | Accomplish all actions associated with— | According to the accomplishment instructions of—
004 through 108 inclusive | Modifying the MLG separation bolt's electrical harness | Saab SB 340-32-041, Revision 01, dated October 9, 1987.
004 through 078 inclusive | Modifying the MLG separation bolt's electrical harness | Saab SB 340-32-028, Revision 01, dated November 25, 1986.

Alternative Methods of Compliance

(e) In accordance with 14 CFR 39.19, the Manager, International Branch, ANM-116, FAA, Transport Airplane Directorate, is authorized to approve alternative methods of compliance for this AD.

Incorporation by Reference

(f) The actions shall be done in accordance with the following Saab service bulletins, as applicable:

Table 2.—Incorporation by Reference
Service bulletin | Revision level | Date
340-32-028 | 01 | November 25, 1986.
340-32-041 | 01 | October 9, 1987.
340-32-127 | Original | December 18, 2002.
340-32-127 | 01 | January 23, 2003.
340-32-128 | Original | March 28, 2003.

This incorporation by reference was approved by the Director of the Federal Register in accordance with 5 U.S.C. 552(a) and 1 CFR part 51. Copies may be obtained from Saab Aircraft AB, SAAB Aircraft Product Support, S-581.88, Linköping, Sweden. Copies may be inspected at the FAA, Transport Airplane Directorate, 1601 Lind Avenue, SW., Renton, Washington; or at the National Archives and Records Administration (NARA).

For information on the availability of this material at NARA, call (202) 741-6030, or go to: http://www.archives.gov/ federal_register/code_ of_federal_regulations/ ibr_locations.html.

Note 1: The subject of this AD is addressed in Swedish airworthiness directives 1-186, dated December 20, 2002, and 1-189, dated April 1, 2003.

Effective Date

(g) This amendment becomes effective on July 29, 2004.

Issued in Renton, Washington, on May 28, 2004.
Kevin M. Mullin,
Acting Manager, Transport Airplane Directorate, Aircraft Certification Service.

[FR Doc. 04-12820 Filed 6-23-04; 8:45 am]

BILLING CODE 4910-13-P